GOVERNMENT ACCOUNTABILITY OFFICE

Advisory Council on the Standards for Internal Control in the Federal Government

AGENCY: Government Accountability Office.

ACTION: Notice of teleconference meeting.

SUMMARY: The US Government Accountability Office (GAO) is preparing to revise the Standards for Internal Control in the Federal Government, known as the “Green Book,” under the authority provided in the Federal Managers' Financial Integrity Act. As part of the revision process, GAO is holding a teleconference with the Green Book Advisory Council (GBAC). The Comptroller General has established the GBAC to provide input and recommendations to the Comptroller General on revisions to the “Green Book.” The purpose of the meeting is to discuss proposed revisions to the “Green Book.”

DATES: The meeting will be held July 25, 2013 from 10:00 a.m. to 12:00 p.m. EDT.

FOR FURTHER INFORMATION CONTACT: For information on the Green Book Advisory Council and the Standards for Internal Control in the Federal Government please contact Kristen Kociolek, Assistant Director, Financial Management and Assurance telephone 202-512-2989, 441 G Street NW., Washington, DC 20548-0001.

SUPPLEMENTARY INFORMATION: The meeting will be a teleconference held by the US Government Accountability Office. This teleconference meeting follows an initial meeting, on May 20, 2013, of the GBAC. During the May 20, 2013 meeting the GBAC discussed an initial Green Book draft. Members of the public will be provided an opportunity to address the Council with a brief (five-minute) comment period on matters directly related to the proposed update and revision. Any interested person who plans to participate in the teleconference as an observer must contact Kristen Kociolek, Assistant Director, 202-512-2989, prior to July 19, 2013. The toll free call-in number is 1-800-369-1927, and the participant code is 41706.

Authority: 31 U.S.C. 3512 (c), (d).

James Dalkin,
Director, Financial Management and Assurance, U.S. Government Accountability Office.

[FR Doc. 2013-16256 Filed 7-5-13; 8:45 am]

BILLING CODE 1610-02-M